DEPARTMENT OF JUSTICE

Antitrust Division

Notice Pursuant to the National Cooperative Research and Production Act of 1993—DVD Copy Control Association

Notice is hereby given that, on December 16, 2005, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, BenQ Corporation, Taoyuan, Taiwan; Coby Electronics Co., Ltd., Guangdong, People's Republic of China; Denso Corporation, Aichiken, Japan; Digitalway, Gyeonggi-do, Republic of Korea; DongGuan Qisheng Electronic Industrial Co., Ltd., Guangdong, People's Republic of China; ETV Interactive Limited, Stirling, United Kingdom; Evatone, Inc., Clearwater, FL; Express Way Limited, Hong Kong, Hong Kong-China; Hitachi High-Technologies Taiwan Corporation, Taipei, Taiwan; Intech Electronics (HK) Co, Ltd., Hong Kong, Hong Kong-China; Kestrelink Corp., Boise, ID; Marco System Digital Video AG, Wetter, Germany; Moser Baer India Ltd., New Delhi, India; Newsky Asia Limited, Hong Kong, Hong Kong-China; Nintendo Co., Ltd., Kyoto, Japan; QiSheng International Limited, Shenzhen, People's Republic of China; Radix Inc., Seoul, Republic of Korea; Shanghai United Optical Disc Co., Ltd., Shanghai, People's Republic of China; Shenzhen Arlink Tech Corp., Ltd., Shenzhen, People's Republic of China; Shenzhen Junlan Electronic Ltd., Shenzhen, People's Republic of China; Shenzhen KXD Multi-Media Co., Ltd., Shenzhen, People's Republic of China; Shenzhen Oriental Digital Technology Co., Ltd., Shenzhen, People's Republic of China; Shenzhen Skywood Info-Tech Industries Co., Ltd., Shenzhen, People's Republic of China; Yuxing Electronics Company Limited, Tortola, British Virgin Islands; and Zhongshan Tomei Audio & Video Products Co., Ltd., Guangdong, People's Republic of China have been added as parties to this venture.

Also, Cyrus Audio Limited, Huntingdon, United Kingdom; MIRAI Audio & Video Co., Ltd., Seoul, Republic of Korea; Micro-Star Int'l Co., Ltd., Taipei Hsien, Taiwan; Nakamichi Corporation, Tokyo, Japan; Schotten Glassmatersing -an der Heiden GmbH, Schotten, Germany; SOHO Tech Village, Ltd., Eastlake, OH; TAG McLaren Audio Limited, Huntingdon, United Kingdom; TBS Service, Inc., Tokyo, Japan; Tecnew Electronic Engineering Co., Ltd., Taipei, Taiwan; and Zhongshan Kenloon Digital Technology Co., Ltd., Guangdong, People's Republic of China have withdrawn as parties to this venture.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on September 19, 2005. A notice was published in the Federal Register pursuant to Section 6(b) of the Act on October 17, 2005 (70 FR 60369).

Dorothy B. Fountain,
Deputy Director of Operations, Antitrust Division.

[FR Doc. 06-443 Filed 1-17-06; 8:45 am]

BILLING CODE 4410-11-M